DEPARTMENT OF HEALTH AND HUMAN SERVICES

National Institutes of Health

National Human Genome Research Institute; Amended Notice of Meeting

Notice is hereby given of a change in the meeting of the National Human Genome Research Institute Special Emphasis Panel, October 17, 2013, 08:00 a.m. to October 17, 2013, 06:00 p.m., Renaissance Arlington Capital View Hotel, 2800 South Potomac Ave., Studio E, Arlington, VA 22202 which was published in the Federal Register on September 11, 2013, 78 FR 55752.

The October 17, 2013 meeting has been changed to December 19, 2013. The meeting is closed to the public.

Dated: October 25, 2013.
David Clary,
Program Analyst, Office of Federal Advisory Committee Policy.

[FR Doc. 2013-25875 Filed 10-30-13; 8:45 am]

BILLING CODE 4140-01-P